DEPARTMENT OF COMMERCE

Foreign-Trade Zones Board

[B-38-2012]

Foreign-Trade Zone 216—Olympia, WA; Authorization of Production Activity; Callisons, Inc. (Mint Products); Lacey and Chehalis, WA

On May 10, 2012, the Port of Olympia, grantee of FTZ 216, submitted a notification of proposed production activity to the Foreign-Trade Zones (FTZ) Board on behalf of Callisons, Inc., within FTZ 216-Site 3 and Site 15, in Lacey and Chehalis, Washington.

The notification was processed in accordance with the regulations of the FTZ Board (15 CFR part 400), including notice in the Federal Register inviting public comment (77 FR 28568, 5-15-2012). The FTZ Board has determined that no further review of the activity is warranted at this time. The production activity described in the notification is authorized, subject to the FTZ Act and the Board's regulations, including Section 400.14.

Dated: September 10, 2012.
Andrew McGilvray,
Executive Secretary.

[FR Doc. 2012-22601 Filed 9-12-12; 8:45 am]

BILLING CODE 3510-DS-P